DEPARTMENT OF HOMELAND SECURITY

Federal Emergency Management Agency

[Docket ID FEMA-2025-0002; Internal Agency Docket No. FEMA-B-2555]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The current effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Jeffrey Jackson,
Deputy Assistant Administrator, Federal Insurance Directorate, Resilience, Federal Emergency Management Agency, Department of Homeland Security.

State and county | Location and case No. | Chief executive officer of community | Community map repository | Online location of letter of map revision | Date of modification | Community No.
Arizona:
Coconino | Unincorporated areas of Coconino County, (24-09-0306P). | The Honorable Patrice Horstman, Chair of the Board, Coconino County, 219 East Cherry Avenue, Flagstaff, AZ 86001. | Coconino County Community Development, 2500 North Fort Valley Road, Building 1, Flagstaff, AZ 86001. | https://msc.fema.gov/portal/advanceSearch. | Oct. 17, 2025 | 040019
Maricopa | City of Buckeye, (24-09-0657P). | The Honorable Eric Orsborn, Mayor, City of Buckeye, 530 East Monroe Avenue, Buckeye, AZ 85326. | City Hall, 530 East Monroe Avenue, Buckeye, AZ 85326. | https://msc.fema.gov/portal/advanceSearch. | Oct. 14, 2025 | 040039
Maricopa | City of Peoria (24-09-0480P). | The Honorable Jason Beck, Mayor, City of Peoria, 8401 West Monroe Street, Peoria, AZ 85345. | City Hall, 8401 West Monroe Street, Peoria, AZ 85345. | https://msc.fema.gov/portal/advanceSearch. | Oct. 24, 2025 | 040050
Arkansas: Washington | City of Elkins, (24-06-2439P). | The Honorable Troy Reed, Mayor, City of Elkins, 1874 Stokenbury Road, Elkins, AR 72727. | City Hall, 1874 Stokenbury Road, Elkins, AR 72727. | https://msc.fema.gov/portal/advanceSearch. | Nov. 17, 2025 | 050214
California:
Riverside | City of Menifee, (24-09-0974P). | Armando G. Villa, City Manager, City of Menifee, 29844 Haun Road, Menifee, CA 92586. | City Hall, 29844 Haun Road, Menifee, CA 92586. | https://msc.fema.gov/portal/advanceSearch. | Nov. 17, 2025 | 060176
Riverside | City of Murrieta, (24-09-0974P). | The Honorable Cindy Warren, Mayor, City of Murrieta, 1 Town Square, Murrieta, CA 92562. | City Hall, 1 Town Square, Murrieta, CA 92562. | https://msc.fema.gov/portal/advanceSearch. | Nov. 17, 2025 | 060751
Riverside | City of Palm Desert, (25-09-0300P). | The Honorable Jan C. Harnik, Mayor, City of Palm Desert, 73510 Fred Waring Drive, Palm Desert, CA 92260. | City Hall, 73510 Fred Waring Drive, Palm Desert, CA 92260. | https://msc.fema.gov/portal/advanceSearch. | Oct. 29, 2025 | 060629
Riverside | City of Perris, (25-09-0170P). | The Honorable Michael Vargas, Mayor, City of Perris, 101 North D Street, Perris, CA 92570. | Engineering Department, 24 South D Street, Suite 100, Perris, CA 92570. | https://msc.fema.gov/portal/advanceSearch. | Nov. 17, 2025 | 060258
Riverside | Unincorporated areas of Riverside County, (24-09-0974P). | The Honorable V. Manuel Perez, Chair, Riverside County Board of Supervisors, 4080 Lemon Street, 5th Floor, Riverside, CA 92501. | Riverside County Flood Control and Water Conservation District, 1995 Market Street, Riverside, CA 92501. | https://msc.fema.gov/portal/advanceSearch. | Nov. 17, 2025 | 060245
San Diego | City of San Diego, (24-09-0229P). | The Honorable Todd Gloria, Mayor, City of San Diego, 202 C Street, 11th Floor, San Diego, CA 92101. | Stormwater Department, 9370 Chesapeake Drive, Suite 100, San Diego, CA 92123. | https://msc.fema.gov/portal/advanceSearch. | Oct. 27, 2025 | 060295
San Diego | Unincorporated areas of San Diego County, (24-09-0229P). | The Honorable Ebony N. Shelton, Chief Administrative Officer, San Diego County, 1600 Pacific Highway, Room 209, San Diego, CA 92101. | San Diego County, Survey Records Counter, 5510 Overland Avenue, Suite 300, San Diego, CA 92123. | https://msc.fema.gov/portal/advanceSearch. | Oct. 27, 2025 | 060284
San Joaquin | City of Stockton (25-09-0082P). | Steve Colangelo, Interim City Manager, City of Stockton, 425 North El Dorado Street, Stockton, CA 95202. | Community Development-Building Department, 345 North El Dorado Street, Stockton, CA 95202. | https://msc.fema.gov/portal/advanceSearch. | Oct. 27, 2025 | 060302
San Joaquin | Unincorporated areas of San Joaquin County, (25-09-0082P). | The Honorable Paul Canepa, Chair, San Joaquin County Board of Supervisors, 44 North San Joaquin Street, 6th Floor, Suite 627, Stockton, CA 95202. | San Joaquin County, Public Works Department, 1810 East Hazelton Avenue, Stockton, CA 95205. | https://msc.fema.gov/portal/advanceSearch. | Oct. 27, 2025 | 060299
Colorado:
Adams | Unincorporated areas of Adams County, (23-08-0746P). | The Honorable Lynn Baca, Chair, Adams County Board of Commissioners, 4430 South Adams County Parkway, 5th Floor, Suite C5000A, Brighton, CO 80601. | Adams County Community and Economic Development, 4430 South Adams County Parkway, 1st Floor, Suite W2000, Brighton, CO 80601. | https://msc.fema.gov/portal/advanceSearch. | Oct. 30, 2025 | 080001
Arapahoe | City of Aurora, (24-08-0262P). | The Honorable Mike Coffman, Mayor, City of Aurora, 15151 East Alameda Parkway, Aurora, CO 80012. | Engineering Department, 15151 East Alameda Parkway, Aurora, CO 80012. | https://msc.fema.gov/portal/advanceSearch. | Oct. 17, 2025 | 080002
Arapahoe | City of Littleton, (24-08-0533P). | The Honorable Kyle Schlachter, Mayor, City of Littleton, 2255 West Berry Avenue, Littleton, CO 80120. | Public Works Department, 2255 West Berry Avenue, Littleton, CO 80120. | https://msc.fema.gov/portal/advanceSearch. | Nov. 7, 2025 | 080017
Jefferson | City of Arvada, (23-08-0746P). | The Honorable Lauren Simpson, Mayor, City of Arvada, 8101 Ralston Road, Arvada, CO 80002. | Engineering Division, 8101 Ralston Road, Arvada, CO 80002. | https://msc.fema.gov/portal/advanceSearch. | Oct. 30, 2025 | 085072
Larimer | City of Fort Collins, (25-08-0506P). | Kelly DiMartino, City Manager, City of Fort Collins, P.O. Box 580, Fort Collins, CO 80522. | Stormwater Engineering and Floodplain Administration, Utility Service Center (USC), 700 Wood Street, Fort Collins, CO 80521. | https://msc.fema.gov/portal/advanceSearch. | Oct. 16, 2025 | 080102
Larimer | Unincorporated areas of Larimer County, (25-08-0506P). | Lorenda Volker, County Manager, Larimer County, P.O. Box 1190, Fort Collins, CO 80522. | Larimer County Administrative Services Engineering Department, 200 West Oak Street, Suite 3000, Fort Collins, CO 80521. | https://msc.fema.gov/portal/advanceSearch. | Oct. 16, 2025 | 080101
Mesa | City of Grand Junction, (24-08-0315P). | Michael Bennett, City of Grand Junction Manager, 250 North 5th Street, Grand Junction, CO 81501. | Engineering Division, 244 North 7th Street, Grand Junction, CO 81501. | https://msc.fema.gov/portal/advanceSearch. | Oct. 30, 2025 | 080117
Weld | Unincorporated areas of Weld County, (25-08-0071P). | The Honorable Perry Buck, Chair, Weld County Board of Commissioners, P.O. Box 758, Greeley, CO 80632. | Weld County Administrative Building, 1150 O Street, Greeley, CO 80631. | https://msc.fema.gov/portal/advanceSearch. | Oct. 27, 2025 | 080266
Delaware:
New Castle | City of New Castle, (25-03-0504P). | The Honorable Valarie Leary, Mayor, City of New Castle, 220 Delaware Street, New Castle, DE 19720. | Building Department, 900 Wilmington Road, New Castle, DE 19720. | https://msc.fema.gov/portal/advanceSearch. | Nov. 13, 2025 | 100026
Florida:
Bay | Unincorporated areas of Bay County, (24-04-7642P). | Robert Majka, Bay County Manager, 840 West 11th Street, Panama City, FL 32401. | Bay County Planning and Zoning Department, 840 West 11th Street, Panama City, FL 32401. | https://msc.fema.gov/portal/advanceSearch. | Nov. 17, 2025 | 120004
Duval | City of Jacksonville, (25-04-2677P). | The Honorable Donna Deegan, Mayor, City of Jacksonville, 117 West Duval Street, Suite 400, Jacksonville, FL 32202. | City Hall, 117 West Duval Street, Suite 400, Jacksonville, FL 32202. | https://msc.fema.gov/portal/advanceSearch. | Nov. 24, 2025 | 120077
Hillsborough | Unincorporated areas of Hillsborough County, (25-04-0011P). | The Honorable Bonnie Wise, Hillsborough County Administrator, 601 East Kennedy Boulevard, 26th Floor, Tampa, FL 33602. | Hillsborough County Public Works Department, 601 East Kennedy Boulevard, 22nd Floor, Tampa, FL 33602. | https://msc.fema.gov/portal/advanceSearch. | Nov. 17, 2025 | 120112
Lake | City of Leesburg, (25-04-1023P). | The Honorable Alan Reisman, Mayor, City of Leesburg, 501 West Meadow Street, Leesburg, FL 34748. | City Hall, 501 West Meadow Street, Leesburg, FL 34748. | https://msc.fema.gov/portal/advanceSearch. | Nov. 20, 2025 | 120136
Marion | City of Ocala (24-04-4815P). | The Honorable Ben Marciano, Mayor, City of Ocala, 110 Southeast Watula Avenue, Ocala, FL 34471. | Stormwater Engineering Department, 1805 Northeast 30th Avenue, Building 300, Ocala, FL 34470. | https://msc.fema.gov/portal/advanceSearch. | Nov. 24, 2025 | 120330
Monroe | Unincorporated areas of Monroe County, (25-04-3303P). | The Honorable Jim Scholl, Mayor, Monroe County Board of Commissioners, 530 Whitehead Street, Key West, FL 33040. | Monroe County Building Department, 2798 Overseas Highway, Suite 300, Marathon, FL 33050. | https://msc.fema.gov/portal/advanceSearch. | Dec. 1, 2025 | 125129
Nassau | Unincorporated areas of Nassau County, (24-04-6683P). | Taco E. Pope, Manager, Nassau County, 96135 Nassau Place, Suite 1, Yulee, FL 32097. | Nassau County Public Services Building, 96161 Nassau Place, Yulee, FL 32097. | https://msc.fema.gov/portal/advanceSearch. | Nov. 13, 2025 | 120170
Palm Beach | Unincorporated areas of Palm Beach County, (25-04-0808P). | The Honorable Todd J. Bonlarron, Interim Administrator, Palm Beach County, 301 North Olive Avenue, Suite 1101, West Palm Beach, FL 33401. | Palm Beach County Vista Center, Building Division, 2300 North Jog Road, West Palm Beach, FL 33411. | https://msc.fema.gov/portal/advanceSearch. | Nov. 17, 2025 | 120192
Polk | City of Lakeland, (25-04-0671P). | The Honorable William “Bill” Mutz, Mayor, City of Lakeland, 228 South Massachusetts Avenue, Lakeland, FL 33801. | City Hall, 228 South Massachusetts Avenue, Lakeland, FL 33801. | https://msc.fema.gov/portal/advanceSearch. | Nov. 21, 2025 | 120267
Seminole | City of Sanford (24-04-6186P). | The Honorable Art Woodruff, Mayor, City of Sanford, 300 North Park Avenue, Sanford, FL 32771. | City Hall, 300 North Park Avenue, Sanford, FL 32771. | https://msc.fema.gov/portal/advanceSearch. | Nov. 28, 2025 | 120294
Volusia | City of Daytona Beach, (25-04-0867P). | The Honorable Derrick Henry, Mayor, City of Daytona Beach, 301 South Ridgewood Avenue, Daytona Beach, FL 32114. | City Hall, 301 South Ridgewood Avenue, Daytona Beach, FL 32114. | https://msc.fema.gov/portal/advanceSearch. | Nov. 17, 2025 | 125099
Idaho: Blaine | City of Hailey, (24-10-0547P). | The Honorable Martha Burke, Mayor, City of Hailey, 115 Main Street South, Hailey, ID 83333. | City Hall, 115 Main Street South, Hailey, ID 83333. | https://msc.fema.gov/portal/advanceSearch. | Oct. 16, 2025 | 160022
Illinois: Cook | Village of Northbrook, (25-05-0537P). | Kathryn Ciesla, Village President, Village of Northbrook, 1225 Cedar Lane, Northbrook, IL 60062. | Public Works Department, Engineering Division, 655 Huehl Road, Northbrook, IL 60062. | https://msc.fema.gov/portal/advanceSearch. | Nov. 28, 2025 | 170132
Massachusetts:
Essex | City of Haverhill, (25-01-0730P). | The Honorable Melinda E. Barrett, Mayor, City of Haverhill, 4 Summer Street, Room 100, Haverhill, MA 01830. | Engineering Division, City Hall, Room 300, Haverhill, MA 01830. | https://msc.fema.gov/portal/advanceSearch. | Nov. 28, 2025 | 250085
Essex | Town of Groveland, (25-01-0730P). | The Honorable Jason Naves, Chair, Town of Groveland Select Board, 183 Main Street, Groveland, MA 01834. | Town Hall, 183 Main Street, Groveland, MA 01834. | https://msc.fema.gov/portal/advanceSearch. | Nov. 28, 2025 | 250083
Essex | Town of West Newbury, (25-01-0730P). | Angus Jennings, Manager, Town of West Newbury, 381 Main Street, West Newbury, MA 01985. | Inspectional Services Department, 381 Main Street, West Newbury, MA 01985. | https://msc.fema.gov/portal/advanceSearch. | Nov. 28, 2025 | 250108
Middlesex | City of Waltham, (25-01-0729P). | The Honorable Jeannette A. McCarthy, Mayor, City of Waltham, 610 Main Street, Waltham, MA 02452. | Clark Government Center, 119 School Street, Waltham, MA 02451. | https://msc.fema.gov/portal/advanceSearch. | Nov. 28, 2025 | 250222
Middlesex | Town of Belmont, (25-01-0729P). | The Honorable Matt Taylor, Chair, Town of Belmont, Select Board, 455 Concord Avenue, Belmont, MA 02478. | Town Hall, 455 Concord Avenue, Belmont, MA 02478. | https://msc.fema.gov/portal/advanceSearch. | Nov. 28, 2025 | 250182
Worcester | Town of Holden (25-01-0727P). | The Honorable Thomas Curran, Chair, Town of Holden, Board of Selectmen, 1204 Main Street, Holden, MA 01520. | Town Hall, 1204 Main Street, Holden, MA 01520. | https://msc.fema.gov/portal/advanceSearch. | Nov. 28, 2025 | 250309
North Carolina:
Brunswick | Town of Calabash, (23-04-1192P). | The Honorable Donna Long, Mayor, Town of Calabash, 882 Persimmon Road Calabash, NC 28467. | Planning and Zoning, 882 Persimmon Road Calabash, NC 28467. | https://msc.fema.gov/portal/advanceSearch. | Sep. 19, 2025 | 370395
Brunswick | Town of Carolina Shores, (23-04-1192P). | The Honorable Daniel Conte, Mayor, Town of Carolina Shores, 200 Persimmon Road Carolina Shores, NC 28467. | Planning and Zoning Division, 200 Persimmon Road Carolina Shores, NC 28467. | https://msc.fema.gov/portal/advanceSearch. | Sep. 19, 2025 | 370517
Brunswick | Unincorporated areas of Brunswick County, (23-04-1192P). | The Honorable Mike Forte, Chair, Brunswick County Board of Commissioners, P.O. Box 249, Bolivia, NC 28422. | Brunswick County Planning Department, 75 Courthouse Drive, Building 1, Bolivia, NC 28422. | https://msc.fema.gov/portal/advanceSearch. | Sep. 19, 2025 | 370295
Oklahoma:
Comanche | City of Lawton, (25-06-0068P). | The Honorable Stan Booker, Mayor, City of Lawton, 212 Southwest 9th Street, Lawton, OK 73501. | City Hall, 212 Southwest 9th Street, Lawton, OK 73501. | https://msc.fema.gov/portal/advanceSearch. | Nov. 28, 2025 | 400049
Tulsa | City of Tulsa, (24-06-2612P). | The Honorable Monroe Nichols IV, Mayor, City of Tulsa, 175 East 2nd Street, Tulsa, OK 74103. | City Hall, 175 East 2nd Street, Suite 690, Tulsa, OK 74103. | https://msc.fema.gov/portal/advanceSearch. | Nov. 24, 2025 | 405381
South Dakota:
Meade | City of Sturgis, (24-08-0256P). | The Honorable Kevin Forrester, Mayor, City of Sturgis, 1040 Harley-Davidson Way, Sturgis, SD 57785. | Public Works Department, 1057 Dudley Street, Sturgis, SD 57785. | https://msc.fema.gov/portal/advanceSearch. | Oct. 22, 2025 | 460055
Pennington | City of Box Elder, (24-08-0531P). | The Honorable Larry Larson, Mayor, City of Box Elder, 420 Villa Drive, Box Elder, SD 57719. | City Hall, 420 Villa Drive, Box Elder, SD 57719. | https://msc.fema.gov/portal/advanceSearch. | Oct. 24, 2025 | 460089
Pennington | Unincorporated areas of Pennington County, (24-08-0531P). | The Honorable Ron Weifenbach, Chair, Pennington County Board of Commissioners, P.O. Box 6160, Rapid City, SD 57709. | Pennington County Administration Building, 130 Kansas City Street, Rapid City, SD 57701. | https://msc.fema.gov/portal/advanceSearch. | Oct. 24, 2025 | 460064
Tennessee: Davidson | Metropolitan Government of, Nashville-Davidson County, (24-04-1726P). | The Honorable Freddie O'Connell, Mayor, Metropolitan Government of, Nashville-Davidson County, 1 Public Square, Suite 100, Nashville, TN 37201. | Metropolitan Government of, Nashville-Davidson County, Metro Water Services, 1607 County Hospital Road, Nashville, TN 37218. | https://msc.fema.gov/portal/advanceSearch. | Nov. 24, 2025 | 470040
Texas:
Dallas | City of Grand Prairie, (24-06-1445P). | The Honorable Ron Jensen, Mayor, City of Grand Prairie, P.O. Box 534045, Grand Prairie, TX 75053. | City Hall East, 300 West Main Street, Grand Prairie, TX 75050. | https://msc.fema.gov/portal/advanceSearch. | Dec. 1, 2025 | 485472
McClennan | City of Waco (24-06-1644P). | The Honorable Jim Holmes, Mayor, City of Waco, P.O. Box 2570, Waco, TX 76702. | Dr. Mae Jackson Development Center, 401 Franklin Avenue, Waco, TX 76701. | https://msc.fema.gov/portal/advanceSearch. | Nov. 28, 2025 | 480461
Utah:
Davis | City of Layton, (24-08-0648P). | The Honorable Joy Petro, Mayor, City of Layton, 437 North Wasatch Drive, Layton, UT 84041. | Engineering Division, 437 North Wasatch Drive, Layton, UT 84041. | https://msc.fema.gov/portal/advanceSearch. | Oct. 28, 2025 | 490047
Davis | Unincorporated areas of Davis County, (24-08-0648P). | The Honorable Lorene Miner Kamalu, Chair, Davis County Board of Commissioners, P.O. Box 618, Farmington, UT 84025. | Davis County, Community and Economic Development Department, 61 South Main Street, Farmington, UT 84025. | https://msc.fema.gov/portal/advanceSearch. | Oct. 28, 2025 | 490038

[FR Doc. 2025-15879 Filed 8-19-25; 8:45 am]

BILLING CODE 9110-12-P